DEPARTMENT OF TRANSPORTATION

Federal Aviation Administration

14 CFR Part 39

[Docket No. FAA-2025-0913; Project Identifier MCAI-2025-00177-T; Amendment 39-23048; AD 2025-11-02]

RIN 2120-AA64

Airworthiness Directives; Airbus SAS Airplanes

AGENCY: Federal Aviation Administration (FAA), DOT.

ACTION: Final rule; request for comments.

SUMMARY: The FAA is adopting a new airworthiness directive (AD) for certain Airbus SAS Model A319-151N, -153N, -171N, and -173N airplanes; A320-251N, -252N, -253N, -271N, -272N, and -273N airplanes; A321-251N, -251NX, -252N, -252NX, -253N, -253NX, -253NY, -271N, -271NX, -272N, and -272NX airplanes. This AD was prompted by reports of lost synchronization between radio management panels (RMPs). This AD requires revising the existing airplane flight manual (AFM) by providing instructions to address dual loss of RMP data synchronization. The FAA is issuing this AD to address the unsafe condition on these products.

DATES: This AD is effective June 11, 2025.

The FAA must receive comments on this AD by July 11, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0913; or in person at Docket Operations between 9 a.m. and 5 p.m., Monday through Friday, except Federal holidays. The AD docket contains this final rule, the mandatory continuing airworthiness information (MCAI), any comments received, and other information. The street address for Docket Operations is listed above.

FOR FURTHER INFORMATION CONTACT: Frank Carreras, Aviation Safety Engineer, FAA, 2200 South 216th St., Des Moines, WA 98198; phone: 206-231-3539; email: Frank.Carreras@FAA.gov.

SUPPLEMENTARY INFORMATION:

Comments Invited

The FAA invites you to send any written data, views, or arguments about this final rule. Send your comments using a method listed under the ADDRESSES section. Include “Docket No. FAA-2025-0913; Project Identifier MCAI-2025-00177-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Frank Carreras, Aviation Safety Engineer, FAA, 2200 South 216th St., Des Moines, WA 98198; phone: 206-231-3539; email: Frank.Carreras@FAA.gov. Any commentary that the FAA receives which is not specifically designated as CBI will be placed in the public docket for this rulemaking.

Background

EASA, which is the Technical Agent for the Member States of the European Union, has issued EASA AD 2025-0037, dated February 12, 2025 (EASA AD 2025-0037) (also referred to as the MCAI), to correct an unsafe condition for Airbus SAS Model A319-151N, -153N, -171N, and -173N airplanes; A320-251N, -252N, -253N, -271N, -272N, and -273N airplanes; A321-251N, -251NX, -252N, -252NX, -253N, -253NX, -253NY, -271N, 271NX, -272N, and -272NX airplanes having Airbus modification 162344 or 168460, except those having Airbus modification 165670 installed in production. The MCAI states occurrences of lost synchronization between RMPs were reported, and that these occurrences led to loss of communications means (RMP data synchronization and very high frequency (VHF) communications) on the digital radio and audio integrating management system (DRAIMS). This condition, if not corrected, could result in total loss of radio communications, including loss of transponder functionality and standby navigation.

Accordingly, EASA AD 2025-0037 describes procedures for revising the existing AFM by providing instructions to address dual loss of RMP data synchronization. The FAA has specified those instructions in figure 1 and 2 to paragraph (g) of this AD. Where the figures refer to airplanes with Modification 162344, the figures also apply to airplanes with Modification 168460 because Modification 162344 is a prerequisite for modification 168460.

The FAA is issuing this AD to address the unsafe condition on these products.

You may examine the MCAI in the AD docket at regulations.gov under Docket No. FAA-2025-0913.

FAA's Determination

These products have been approved by the civil aviation authority of another country and are approved for operation in the United States. Pursuant to the FAA's bilateral agreement with this State of Design Authority, that authority has notified the FAA of the unsafe condition described in the MCAI referenced above. The FAA is issuing this AD after determining that the unsafe condition described previously is likely to exist or develop on other products of the same type design.

Requirements of This AD

This AD requires revising the existing AFM by providing instructions to address dual loss of RMP data synchronization.

Compliance With AFM Revision

EASA AD 2025-0037 requires operators to “inform all flight crews” of revision to the AFM, and thereafter to “operate the aeroplane accordingly.” However, this AD does not specifically require that action as that action is already required by FAA regulations.

FAA regulations require that operators furnish to pilots any changes to the AFM (for example, 14 CFR 121.137) and that pilots are familiar with the AFM (for example, 14 CFR 91.505). As with any other flightcrew training requirement, training on the updated AFM content is tracked by the operators and recorded in each pilot's training record, which is available for the FAA to review. FAA regulations also require pilots to follow the procedures in the AFM including all updates. Section 91.9 requires that any person operating a civil aircraft must comply with the operating limitations specified in the AFM.

Therefore, including a requirement in this AD to operate the airplane according to the revised AFM would be redundant and unnecessary.

Interim Action

The FAA considers that this AD is an interim action. The design approval holder is currently developing a modification that will address the unsafe condition identified in this AD. Once this modification is developed, approved, and available, the FAA might consider additional rulemaking.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because lost synchronization between RMPs can lead to loss of communications means (RMP data synchronization and VHF communications) on DRAIMS, which could result in total loss of radio communications, transponder functionality, and standby navigation, impacting the flightcrew's ability to safely navigate, avoid air traffic collisions, and safely land the airplane. Additionally, the compliance time in this AD for the required action is 7 days, which is shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 544 airplanes of U.S. registry. The FAA estimates the following costs to comply with this AD:

Estimated Costs for Required Actions
Labor cost | Parts cost | Cost per product | Cost on U.S. operators
1 work-hour × $85 per hour = $85 | $0 | $85 | $46,240

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-11-02 Airbus SAS: Amendment 39-23048; Docket No. FAA-2025-0913; Project Identifier MCAI-2025-00177-T.

(a) Effective Date

This airworthiness directive (AD) is effective June 11, 2025.

(b) Affected ADs

None.

(c) Applicability

This AD applies to the Airbus SAS Model airplanes identified in paragraphs (c)(1) through (3) of this AD, certificated in any category, having Airbus modification 162344 or 168460, except for airplanes having Airbus modification 165670 installed in production.

(1) Model A319-151N, -153N, -171N, and -173N airplanes.

(2) Model A320-251N, -252N, -253N, -271N, -272N, and -273N airplanes.

(3) Model A321-251N, -251NX, -252N, -252NX, -253N, -253NX, -253NY, -271N, -271NX, -272N, and -272NX airplanes.

(d) Subject

Air Transport Association (ATA) of America Code 23, Communications.

(e) Unsafe Condition

This AD was prompted by reports of lost synchronization between radio management panels (RMPs). The FAA is issuing this AD to address loss of communications means (RMP data synchronization and very high frequency (VHF) communications) on the digital radio and audio integrating management system (DRAIMS). This condition, if not corrected, could result in total loss of radio communications, including transponder functionality and standby navigation.

(f) Compliance

Comply with this AD within the compliance times specified, unless already done.

(g) Airplane Flight Manual (AFM) Revision

Within 7 days after the effective date of this AD, revise the Emergency Procedures section of the existing AFM to include the information in figure 1 or figure 2 to paragraph (g) of this AD, as applicable. This may be done by inserting a copy of figure 1 or figure 2 to paragraph (g) of this AD, as applicable, into the existing AFM. Using a different document with information identical to that contained in figure 1 or figure 2 to paragraph (g) of this AD, as applicable, is acceptable for compliance with the requirements of this paragraph.

Figure 1 to Paragraph (g)—AFM Procedure for Airplanes With Airbus Modification 162344 and Modification 162367

BILLING CODE 4910-13-P

Figure 2 to Paragraph (g)—AFM Procedure for Airplanes With Airbus Modification 162344 and Not Modification 162367

BILLING CODE 4910-13-C

(h) Credit for Previous Actions

(1) This paragraph provides credit for the AFM revision required by paragraph (g) of this AD, if the revision was performed before the effective date of this AD using Airbus A318/A319/A320/A321 Operations Engineering Bulletin (OEB) 63, issue 1.0, dated February 7, 2025.

(2) This paragraph provides credit for the AFM revision required by paragraph (g) of this AD, if the revision was performed before the effective date of this AD using Airbus A318/A319/A320/A321 Airplane Flight Manual Temporary Revision TR816, Issue 1, dated February 19, 2025; or Airbus A318/A319/A320/A321 Airplane Flight Manual Temporary Revision TR817, Issue 1, dated February 19, 2025, as applicable.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of AIR-520, Continued Operational Safety Branch, send it to the attention of the person identified in paragraph (j)(1) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(j) Additional Information

(1) For more information about this AD, contact Frank Carreras, Aviation Safety Engineer, FAA, 2200 South 216th St., Des Moines, WA 98198; phone: 206-231-3539; email: Frank.Carreras@FAA.gov.

(2) For Airbus material identified in this AD that is not incorporated by reference, contact Airbus SAS, Airworthiness Office—EAL, Rond-Point Emile Dewoitine No: 2, 31700 Blagnac Cedex, France; telephone +33 5 61 93 36 96; fax +33 5 61 93 45 80; email airworthiness.A330-A340@airbus.com; website airbus.com.

(k) Material Incorporated by Reference

None.

Issued on May 19, 2025.
Peter A. White,
Deputy Director, Integrated Certificate Management Division, Aircraft Certification Service.

[FR Doc. 2025-09416 Filed 5-21-25; 11:15 am]

BILLING CODE 4910-13-P